NUCLEAR REGULATORY COMMISSION

[Docket No. 50-315; NRC-2009-0406; License No. DPR-058]

Indiana Michigan Power Company Donald C. Cook Nuclear Plant, Unit 1; Notice of Issuance of Director's Decision Under 10 CFR 2.206

Notice is hereby given that the Director, Office of Nuclear Reactor Regulation, has issued a director's decision with regard to a petition dated December 16, 2008, filed on behalf of the Union of Concerned Scientists (UCS) by Mr. David Lochbaum, hereinafter referred to as the “petitioner.” In a letter dated February 2, 2009, Mr. Lochbaum designated Dr. Edwin Lyman as the petitioner and new point of contact for UCS. The petition concerns the safe future operation of Indiana Michigan Power Company's (the licensee) Donald C. Cook Nuclear Power Plant, Unit 1 (CNP-1).

The petition requested that the U.S. Nuclear Regulatory Commission (NRC) issue a demand for information requiring the licensee to docket information on four issues described below at least 30 days before restarting CNP-1 from the current outage.

As the basis for the December 16, 2008, request, the petitioner raised concerns stemming from the significant vibration resulting from the failure of the CNP-1 main turbine on September 20, 2008. Specifically, the petitioner stated that the event caused significant vibration levels that resulted in the spurious operation of standby equipment and may have contributed to a breach that seriously impaired the fire protection system. The petitioner requested the information, in part, to ensure that the licensee had applied the proper lessons learned from the event to the future operation of the CNP-1 reactor. The petitioner further stated that without this information, the NRC could not be assured that the public was adequately protected from the significant adverse safety implications resulting from a safe shutdown earthquake event that causes the spurious actuation of equipment.

On January 21, 2009, the NRC Petition Review Board (PRB) convened to discuss the petition under consideration and determined that it met the criteria established in NRC Management Directive 8.11, “Review Process for 10 CFR 2.206 Petitions,” dated October 25, 2000, for acceptance into the process under Title 10 of the Code of Federal Regulations (10 CFR) 2.206, “Requests for action under this subpart.” On January 27, 2009, the NRC staff discussed this conclusion with the petitioner during a telephone conversation. The petitioner stated during this conversation that he would not need a public meeting to address the PRB.

The NRC sent a copy of the proposed director's decision to the petitioner and the licensee for comment on July 2, 2009. The staff did not receive any comments on the proposed director's decision.

The Director of the Office of Nuclear Reactor Regulation has determined that the agency should deny the request that the NRC issue a demand for information requiring Indiana Michigan Power Company to docket information on four issues at least 30 days before restarting CNP-1 from the current outage. The director's decision, DD-09-02, explains the reasons for this decision pursuant to 10 CFR 2.206. The complete text of the decision is available in the Agencywide Documents Access and Management System (ADAMS) Electronic Reading Room (ADAMS Accession No. ML092230012) on the NRC's Web site, http://www.nrc.gov/reading-rm/adams.html, and for inspection at the Commission's Public Document Room, located at One White Flint North, Public File Area O1 F21, 11555 Rockville Pike (first floor), Rockville, Maryland.

In a letter dated May 12, 2009, the licensee provided a response to the petitioner's request for information. The NRC technical staff reviewed the licensee's response and other docketed information associated with the event. The NRC staff has concluded that public health and safety were not affected by the event, nor would they be affected by a similar event in the future. Furthermore, the NRC has found the licensee's event response and corrective actions to be reasonable and technically sound.

Based on the above, the Office of Nuclear Reactor Regulation has concluded that future operation of CNP-1 provides reasonable assurance of the continued protection of public health and safety. There were no violations associated with the event. The licensee's corrective actions in response to the event appear appropriate. No further action is required.

In accordance with 10 CFR 2.206 of the Commission's regulations, the staff will file a copy of the director's decision with the Secretary of the Commission for the Commission's review. As provided for by this regulation, the director's decision will constitute the final action of the Commission 25 days after the date of the decision, unless the Commission, on its own motion, institutes a review of the director's decision within that time.

Dated at Rockville, Maryland, this 4th day of September 2009.
For the Nuclear Regulatory Commission.
Eric J. Leeds,
Director, Office of Nuclear Reactor Regulation.

[FR Doc. E9-22323 Filed 9-15-09; 8:45 am]

BILLING CODE 7590-01-P